DEPARTMENT OF HEALTH AND HUMAN SERVICES

Centers for Disease Control and Prevention

[60 Day-01-56]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Training Needs Analysis Questionnaire—New—The Centers for Disease Control and Prevention (CDC), National Center for Environmental Health (NCEH), is funding an effort to develop a national asthma curriculum for the public health workforce. Asthma is a growing concern within the public health community. Its prevalence and mortality/morbidity are on the rise, particularly among poor urban inner city populations.

A key first step in the development of any training curriculum is the conduct of a needs analysis to determine the content and delivery mechanism for the material. The target audience for the asthma curriculum includes state and local health department personnel, health care providers, university and school health personnel, members of national non-profit asthma organizations, managed care groups, and Federal health agencies.

Given the wide diversity of the target audience, the National Center for Environmental Health determined that the most efficient and effective means of gathering training needs information is through the use of a short questionnaire which can be placed on an Internet web site. Through various advertising methods, people can be directed to the web site to complete the on-line questionnaire.

Information to be gathered will include general (but not individual) demographic information, asthma-related job duties and functions, a determination of which job duties and functions have the highest priority need for training, and what delivery mechanism (i.e., distance learning via the Internet, satellite broadcast, formal classroom training, etc.) would be the most acceptable and accessible for the audience. The questionnaire will be short (approximately 15 questions) to minimize the burden upon respondents. This request is for a one-time approval to use an on-line questionnaire. The costs to respondents are $15,700.

Respondents | No. of respondents | No. of responses per respondent | Average burden per response (in hours) | Total burden (in hours)
State and local health departments | 240 | 1 | 20/60 | 80
Physicians | 200 | 1 | 20/60 | 67
Nurses/other health care providers | 400 | 1 | 20/60 | 133
Federal agencies | 25 | 1 | 20/60 | 8
Non-profit asthma organizations | 200 | 1 | 20/60 | 67
MCOs, insurance companies | 50 | 1 | 20/60 | 17
Universities/schools | 50 | 1 | 20/60 | 17
Asthma coalitions | 100 | 1 | 20/60 | 33
Total | 1265 |  |  | 422

Dated: August 16, 2001.
Nancy Cheal,
Acting Associate Director for Policy, Planning and Evaluation, Centers for Disease Control and Prevention.

[FR Doc. 01-21269 Filed 8-22-01; 8:45 am]

BILLING CODE 4163-18-P